DEPARTMENT OF HEALTH AND HUMAN SERVICES

Centers for Disease Control and Prevention

[60Day-18-0666]

Agency Forms Undergoing Paperwork Reduction Act Review; Withdraw

AGENCY: Centers for Disease Control and Prevention (CDC), Department of Health and Human Services (HHS).

ACTION: Notice with comment period; withdrawal.

SUMMARY: The Centers for Disease Control and Prevention (CDC) in the Department of Health and Human Services (HHS) announces the withdrawal of the notice published under the same title on September 7, 2018 for public comment.

DATES: The Centers for Disease Control and Prevention is withdrawing the notice published September 7, 2018 (83 FR 45444) as of September 25, 2018.

FOR FURTHER INFORMATION CONTACT: Information Collection Review Office, Centers for Disease Control and Prevention, 1600 Clifton Road NE, MS-D74, Atlanta, Georgia 30329; phone: 404-639-7570; Email: omb@cdc.gov.

SUPPLEMENTARY INFORMATION: On September 7, 2018, CDC published a notice in the Federal Register titled “National Healthcare Safety Network (NHSN)” (Vol. 83, No. 174 Docket No. CDC-2018-0042, Pages 45444-45447). This notice was published inadvertently. The notice is being withdrawn immediately for public comment.

Jeffrey M. Zirger,
Acting Chief, Information Collection Review Office, Office of Scientific Integrity, Office of the Associate Director for Science, Office of the Director, Centers for Disease Control and Prevention.

[FR Doc. 2018-20809 Filed 9-24-18; 8:45 am]

BILLING CODE 4163-18-P